Title 3—

The President

Memorandum of January 27, 2012

Delegation of Certain Function Under Section 308(a) of the Intelligence Authorization Act for Fiscal Year 2012

Memorandum for the Secretary of State

By the authority vested in me as President by the Constitution and the laws of the United States of America, including section 301 of title 3, United States Code, I hereby delegate to you, in consultation with the Secretary of Defense, the function to provide to the Congress the information specified in section 308(a) of the Intelligence Authorization Act for Fiscal Year 2012 (Public Law 112-87).

You are authorized and directed to publish this memorandum in the Federal Register.

THE WHITE HOUSE,

Washington, January 27, 2012

[FR Doc. 2012-4598

Filed 2-23-12; 11:15 am]

Billing code 4710-10-P